DEPARTMENT OF HEALTH AND HUMAN SERVICES

Health Resources and Services Administration

Agency Information Collection Activities: Proposed Collection: Public Comment Request; Information Collection Request Title: Data System for Organ Procurement and Transplantation Network, OMB No. 0915-0157—Revision

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than November 28, 2022.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the HRSA Information Collection Clearance Officer at (301) 443-9094.

SUPPLEMENTARY INFORMATION: When submitting comments or requesting information, please include the information collection request title for reference.

Information Collection Request Title: Data System for Organ Procurement and Transplantation Network (OPTN), OMB No. 0915-0157—Revision.

Abstract: Section 372 of the Public Health Service Act requires that the Secretary of HHS, by contract, provide for the establishment and operation of a private, non-profit entity the OPTN, which on behalf of HRSA, oversees the U.S. donation and transplantation system. The OPTN Board of Directors (BOD) determines what data must be collected to appropriately fulfill their responsibilities pursuant to their regulatory authority in 42 CFR 121.11 of the OPTN Final Rule. HRSA, on behalf of the OPTN BOD and in alignment with the Paperwork Reduction Act of 1995, submits OPTN BOD-approved data elements for collection to OMB for official federal approval.

Need and Proposed Use of the Information: HRSA and the OPTN BOD use data to develop transplant, donation, and allocation policies; to determine whether institutional members are complying with policy; to determine member-specific performance; to ensure patient safety, and to fulfill the requirements of the OPTN Final Rule. In addition, the regulatory authority in 42 CFR 121.11 of the OPTN Final Rule requires the OPTN data to be made available, consistent with applicable laws, for use by OPTN members, the Scientific Registry of Transplant Recipients, HHS, and members of the public for evaluation, research, patient information, and other important purposes.

This is a request to revise the current OPTN data collection which includes time-sensitive, life-critical data on transplant candidates and donors, the organ matching process, histocompatibility results, organ labeling and packaging, and pre- and post-transplantation data on recipients and donors. This revision also includes OPTN BOD-approved changes to the existing OMB data collection forms. The OPTN collects these specific data elements from transplant hospitals, organ procurement organizations, and histocompatibility laboratories. The OPTN uses this information to (1) facilitate organ placement and match donor organs with recipients, (2) monitor compliance of member organizations with federal laws and regulations and with OPTN requirements, (3) review and report periodically to the public on the status of organ donation and transplantation in the United States, (4) provide data to researchers and government agencies to study the scientific and clinical status of organ transplantation, and (5) perform transplantation-related public health surveillance including the possible transmission of donor disease.

HRSA is requesting to make the following OPTN BOD-approved changes to improve the OPTN organ matching and allocation process and improve OPTN member compliance with OPTN requirements:

(1) Adding data collection forms from the OPTN donor management and organ matching system to the existing OMB-approved information collection. The system allows an organ procurement organization to add donors, run the donor/potential transplant recipients matches, and place a donated organ(s) with a computer-matched potential transplant recipient. Transplant centers will access the system to view posted donor information to assist them with accepting decisions, along with other donor/potential transplant recipient functions such as entering offer responses and verifying organ offer refusals. The OPTN donor management and organ matching system is comprised of eight data collection forms: initial donor registration, organ procurement organization notification limit administration, potential transplant recipient, death notification registration, deceased donor death referral, donor hospital registration, donor organ disposition, and transplant center contact management.

(2) The OPTN BOD-approved additional revisions to existing data collection forms to improve organ matching, allocation, and OPTN policy compliance.

(3) Existing OPTN data collection forms that collect a single race and ethnicity variable will be revised to collect separate race and ethnicity variables, following the minimum standards for collecting and presenting data on race and ethnicity for all federal reporting found within Revisions of Standards for the Classification of Federal Data on Race and Ethnicity, OMB Statistical Policy Directive No. 15 in Federal Register, 62 FR 58782 (Oct. 30, 1997). Improving data collection around race and ethnicity information of donors and candidates aligns with Executive Order 13985, which calls on agencies to advance equity through identifying and addressing barriers to equal opportunity that underserved communities may face due to government policies and programs.

Likely Respondents: Transplant programs, organ procurement organizations (OPO), and histocompatibility laboratories.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information, and to transmit or otherwise disclose the information. The total annual burden hours estimated for this ICR are summarized in the table below.

The estimated total estimated burden hours for this collection increased by 213,662 hours from the currently approved ICR package. This increase is due to the addition of eight collection forms from the OPTN donor management and organ matching system to this data collection package, specifically the burden increase from the Potential Transplant Recipient form. While the data fields collected on the Potential Transplant Recipient form are limited, the volume of organ offer responses is significant due to the large number of potential transplant recipients shown on the organ match run results. The organ match run results produce thousands of potential transplant recipients that require responses from OPOs and transplant hospitals. This volume of candidates significantly impacts the total burden hours for this form.

Total Estimated Annualized Burden Hours:

Form name | Number of respondents * | Number of responses per respondent | Total responses | Average burden per response (in hours) | Total burden hours
Deceased Donor Registration | 57 | 243.560 | 13,883 | 1.09 | 15,132
Living Donor Registration | 216 | 28.106 | 6,071 | 2.19 | 13,295
Living Donor Follow-up | 216 | 90.550 | 19,559 | 1.52 | 29,730
Donor Histocompatibility | 141 | 149.184 | 21,035 | 0.20 | 4,207
Recipient Histocompatibility | 141 | 264.950 | 37,358 | 0.40 | 14,943
Heart Transplant Candidate Registration | 145 | 34.586 | 5,015 | 0.90 | 4,514
Heart Transplant Recipient Registration | 145 | 26.324 | 3,817 | 1.40 | 5,344
Heart Transplant Recipient Follow-Up (6 Months) | 145 | 24.400 | 3,538 | 0.40 | 1,415
Heart Transplant Recipient Follow-Up (1-5 Years) | 145 | 104.140 | 15,100 | 0.90 | 13,590
Heart Transplant Recipient Follow-Up (Post 5 Year) | 145 | 171.100 | 24,810 | 0.50 | 12,405
Heart Post-Transplant Malignancy Form | 145 | 13.170 | 1,910 | 0.90 | 1,719
Lung Transplant Candidate Registration | 72 | 42.970 | 3,094 | 0.90 | 2,785
Lung Transplant Recipient Registration | 72 | 35.010 | 2,521 | 1.20 | 3,025
Lung Transplant Recipient Follow-Up (6 Months) | 72 | 33.630 | 2,421 | 0.50 | 1,211
Lung Transplant Recipient Follow-Up (1-5 Years) | 72 | 139.940 | 10,076 | 1.10 | 11,084
Lung Transplant Recipient Follow-Up (Post 5 Year) | 72 | 136.280 | 9,812 | 0.60 | 5,887
Lung Post-Transplant Malignancy Form | 72 | 22.630 | 1,629 | 0.40 | 652
Heart/Lung Transplant Candidate Registration | 70 | 0.960 | 67 | 1.10 | 74
Heart/Lung Transplant Recipient Registration | 70 | 0.640 | 45 | 1.30 | 59
Heart/Lung Transplant Recipient Follow-Up (6 Months) | 70 | 0.600 | 42 | 0.80 | 34
Heart/Lung Transplant Recipient Follow-Up (1-5 Years) | 70 | 2.100 | 147 | 1.10 | 162
Heart/Lung Transplant Recipient Follow-Up (Post 5 Year) | 70 | 3.360 | 235 | 0.60 | 141
Heart/Lung Post-Transplant Malignancy Form | 70 | 0.290 | 20 | 0.40 | 8
Liver Transplant Candidate Registration | 143 | 96.920 | 13,860 | 0.80 | 11,088
Liver Transplant Recipient Registration | 143 | 64.580 | 9,235 | 1.20 | 11,082
Liver Transplant Recipient Follow-Up (6 Month-5 Year) | 143 | 320.266 | 45,798 | 1.00 | 45,798
Liver Transplant Recipient Follow-Up (Post 5 Year) | 143 | 384.320 | 54,958 | 0.50 | 27,479
Liver Recipient Explant Pathology Form | 143 | 7.300 | 1,044 | 0.60 | 626
Liver Post-Transplant Malignancy | 143 | 19.060 | 2,726 | 0.80 | 2,181
Intestine Transplant Candidate Registration | 21 | 6.860 | 144 | 1.30 | 187
Intestine Transplant Recipient Registration | 21 | 4.570 | 96 | 1.80 | 173
Intestine Transplant Recipient Follow-Up (6 Month-5 Year) | 21 | 20.050 | 421 | 1.50 | 632
Intestine Transplant Recipient Follow-Up (Post 5 Year) | 21 | 40.190 | 844 | 0.40 | 338
Intestine Post-Transplant Malignancy Form | 21 | 0.620 | 13 | 1.00 | 13
Kidney Transplant Candidate Registration | 234 | 177.000 | 41,418 | 0.80 | 33,134
Kidney Transplant Recipient Registration | 234 | 105.397 | 24,663 | 1.20 | 29,596
Kidney Transplant Recipient Follow-Up (6 Month-5 Year) | 234 | 517.124 | 121,007 | 0.90 | 108,906
Kidney Transplant Recipient Follow-Up (Post 5 Year) | 234 | 525.103 | 122,874 | 0.50 | 61,437
Kidney Post-Transplant Malignancy Form | 234 | 24.474 | 5,727 | 0.80 | 4,582
Pancreas Transplant Candidate Registration | 120 | 2.650 | 318 | 0.60 | 191
Pancreas Transplant Recipient Registration | 120 | 1.190 | 143 | 1.20 | 172
Pancreas Transplant Recipient Follow-Up (6 Month-5 Year) | 120 | 6.680 | 802 | 0.50 | 401
Pancreas Transplant Recipient Follow-Up (Post 5 Year) | 120 | 17.820 | 2138 | 0.50 | 1,069
Pancreas Post-Transplant Malignancy Form | 120 | 1.060 | 127 | 0.60 | 76
Kidney/Pancreas Transplant Candidate Registration | 120 | 12.450 | 1,494 | 0.60 | 896
Kidney/Pancreas Transplant Recipient Registration | 120 | 6.840 | 821 | 1.20 | 985
Kidney/Pancreas Transplant Recipient Follow-Up (6 Month-5 Year) | 120 | 39.440 | 4,733 | 0.50 | 2,367
Kidney/Pancreas Transplant Recipient Follow-Up (Post 5 Year) | 120 | 69.410 | 8,329 | 0.60 | 4,997
Kidney/Pancreas Post-Transplant Malignancy Form | 120 | 2.490 | 299 | 0.40 | 120
VCA Transplant Candidate Registration | 21 | 0.330 | 7 | 0.40 | 3
VCA Transplant Recipient Registration | 21 | 0.190 | 4 | 1.36 | 5
VCA Transplant Recipient Follow Up | 21 | 1.000 | 21 | 1.31 | 28
Organ Labeling and Packaging | 57 | 247.720 | 14,120 | 0.18 | 2,542
Organ Tracking and Validating | 308 | 19.487 | 6,002 | 0.08 | 480
Kidney Paired Donation Candidate Registration | 159 | 1.200 | 191 | 0.29 | 55
Kidney Paired Donation Donor Registration | 159 | 1.560 | 248 | 1.08 | 268
Kidney Paired Donation Match Offer Management | 159 | 1.520 | 242 | 0.67 | 162
Disease Transmission Event | 308 | 1.810 | 557 | 0.62 | 345
Living Donor Event | 251 | 0.155 | 39 | 0.56 | 22
Safety Situation | 449 | 0.600 | 269 | 0.56 | 151
Potential Disease Transmission | 57 | 8.720 | 497 | 1.27 | 631
Request to Unlock Form | 449 | 42.399 | 19,037 | 0.02 | 381
Initial Donor Registration | 57 | 335.720 | 19,136 | 3.00 | 57,408
OPO Notification Limit Administration | 57 | 0.490 | 28 | 0.17 | 5
Potential Transplant Recipient | 308 | 4,718.480 | 1,453,292 | 0.05 | 72,665
Death Notification Registration | 57 | 185.770 | 10,589 | 0.42 | 4,447
Deceased Donor Death Referral | 57 | 53.840 | 3,069 | 0.50 | 1,535
Donor Hospital Registration | 57 | 0.040 | 2 | 0.08 | 0
Donor Organ Disposition | 57 | 335.720 | 19,136 | 0.17 | 3,253
Transplant Center Contact Management | 251 | 637.500 | 160,013 | 0.06 | 9,601
Total = 70 forms | 9,146 |  | 2,352,736 |  | 643,929
* The numbers of respondents and the numbers of total responses in the burden table were updated with 2021 OPTN data and reflect increases in the number of organ transplants and changes in the number of respondents (Transplant Hospitals, OPO, and Histocompatibility Labs).

HRSA specifically requests comments on (1) the necessity and utility of the proposed information collection for the proper performance of the agency's and the OPTN's functions; (2) the accuracy of the estimated burden; (3) ways to enhance the quality, utility, and clarity of the information to be collected; and (4) the use of automated collection techniques or other forms of information technology to minimize the information collection burden.

Maria G. Button,
Director, Executive Secretariat.

[FR Doc. 2022-21119 Filed 9-28-22; 8:45 am]

BILLING CODE 4165-15-P